ENVIRONMENTAL PROTECTION AGENCY

[FRL-7592-9]

Chevron Chemical Company Superfund Site; Notice of Proposed Settlement

AGENCY: Environmental Protection Agency.

ACTION: Notice of proposed settlement.

SUMMARY: Under Section 122(h)(1) of the Comprehensive Environmental Response, Compensation and Liability Act (CERCLA), the Environmental Protection Agency (EPA) has entered into an Agreement for Recovery of Past and Future UAO Response & Oversight Costs (Agreement) at the Chevron Chemical Company Superfund Site (Site) located in Orange County, Orlando, Florida, with Chevron Environmental Management Company and Chevron Chemical Company, a division of Chevron U.S.A., Inc. EPA will consider public comments on the Agreement until January 2, 2004. EPA may withdraw from or modify the Agreement should such comments disclose facts or considerations which indicate the Agreement is inappropriate, improper, or inadequate. Copies of the Agreement are available from: Ms. Paula V. Batchelor, U.S. Environmental Protection Agency, Region 4, Superfund Enforcement & Information Management Branch, Waste Management Division, 61 Forsyth Street, SW., Atlanta, Georgia 30303, (404) 562-8887.

Written comment may be submitted to Greg Armstrong at the above address within 30 days of the date of publication.

Dated: November 17, 2003.
Rosalind H. Brown,
Chief, Superfund Enforcement & Information, Management Branch, Waste Management Division.

[FR Doc. 03-30045 Filed 12-2-03; 8:45 am]

BILLING CODE 6560-50-P